DEPARTMENT OF ENERGY

Federal Energy Regulatory Commission

[Docket No. TX20-1-001]

City of Boulder, Colorado; Notice of Filing

Take notice that on March 13, 2020, pursuant to sections 210 and 212 of the Federal Power Act,¹ and Rules 602 of the Commission's Rules of Practice and Procedure,² City of Boulder, Colorado (the City) filed an application for an Offer of Settlement (Settlement) in the above-referenced proceeding. The Settlement is intended to resolve all issues raised in the City's February 6, 2020 application for Order Directing Interconnection of Facilities on Reasonable Terms and Conditions.

¹ 16 U.S.C. 824i and 824k.

² 18 CFR 385.602 (2019).

Any person desiring to intervene or to protest this filing must file in accordance with Rules 211 and 214 of the Commission's Rules of Practice and Procedure (18 CFR 385.211 and 385.214). Protests will be considered by the Commission in determining the appropriate action to be taken, but will not serve to make protestants parties to theproceeding. Any person wishing to become a party must file a notice of intervention ormotion to intervene, as appropriate. Such notices, motions, or protests must be filed onor before the comment date. Anyone filing a motion to intervene or protest must serve acopy of that document on the Applicant. On or before the comment date, it is notnecessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on April 3, 2020.

Dated: March 16, 2020.
Nathaniel J. Davis, Sr.,
Deputy Secretary.

[FR Doc. 2020-05889 Filed 3-19-20; 8:45 am]

BILLING CODE 6717-01-P